DEPARTMENT OF TRANSPORTATION

Federal Aviation Administration

RTCA Special Committee 181/EUROCAE Working Group 13: Standards of Navigation Performance

AGENCY: Federal Aviation Administration (FAA), DOT.

ACTION: Notice of RTCA Special Committee 181/EUROCAE Working Group 13 meeting.

SUMMARY: The FAA is issuing this notice to advise the public of a meeting of RTCA Special Committee 181/EUROCAE Working Group 13: Standards of Navigation Performance.

DATES: The meeting will be held September 24-28, 2001 starting at 9 a.m.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; website http://222.rtca.org.

SUPPLEMENTARY INFORMATION: Pursuant to section 10(a)(2) of the Federal Advisory Committee Act (P.L. 92-463, 5 U.S.C., Appendix 2), notice is hereby given for a Special Committee 181/EUROCAE Working Group 13 meeting.

Note: Working Groups 1 and 4 will meet separately September 24-27.

The plenary agenda will include:

• September 25 (9 a.m.-10 a.m.):

• Opening Plenary Session (Chairman Remarks, Review/Approval of Previous Meeting Minutes)

• Working Group Reports

• September 28 (9 am-1 pm):

• Final Review/Approval of Required Navigation Performance (RNP) Minimum Operational Performance Standard (MOPS), RTCA Paper No. 225-01/SC181-128

• Closing Plenary Session (New Business, Future Meeting Schedule, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 27, 2001.
Janice L. Peters,
FAA Special Assistant, RTCA Advisory Committee.

[FR Doc. 01-22249 Filed 9-4-01; 8:45 am]

BILLING CODE 4910-13-M